DEPARTMENT OF HOMELAND SECURITY

[Docket No. DHS-2016-0077]

Supplemental Programmatic Environmental Assessment (SPEA) for the Proposed Establishment and Operations of the Office of Biometric Identity Management and the Homeland Advanced Biometric Technology (HART)

AGENCY: National Protection and Programs Directorate, DHS.

ACTION: 30-day notice of availability of public review of a Supplemental Programmatic Environmental Assessment.

SUMMARY: The Department of Homeland Security (DHS), National Protection and Programs Directorate (NPPD), Office of Biometric Identity Management (OBIM) has completed a Draft Supplemental Programmatic Environmental Assessment (SPEA) to assess the impacts resulting from the replacement of the existing Automated Biometric Identification System (IDENT) in order to meet obligations pertaining to expanded biometric service obligations.

IDENT was developed in the 1990s by the Immigration and Naturalization Service as a pilot project. As DHS demands for biometric identity services grew and evolved, IDENT expanded both its customer base and services provided to those customers by retrofitting functionalities to its original pilot project foundation to meet urgent mission needs. The system has progressed from supporting one usage scenario and one stakeholder in 1994 to a multiplicity of business processes, services, and interfaces required to meet the needs of a variety of stakeholders. In 2003 the former United States Visitor and Immigrant Status Indicator Technology (US-VISIT) Program was designated as the DHS provider for biometric and associated biographic identity screening and analysis services.

The primary mission of the former US-VISIT program was to serve as a repository of collected information on the unique identity of travelers and to collect, maintain, and share information related to entry, exit, and status events of foreign nationals in order to enhance national security, facilitate legitimate trade and travel, and ensure the integrity of our immigration system, while deploying the program in accordance with existing privacy laws and policies. This mission was accomplished through the deployment of discrete capabilities through two systems: IDENT and the Arrival and Departure Information System (ADIS).

In 2013 OBIM assumed cross-cutting responsibility for DHS biometric identity services from the former US-VISIT Program. OBIM operates and maintains IDENT, and matches, stores, analyzes, and shares biometric data to provide more accurate and high assurance biometric identity information and analysis. IDENT, with its repository of biometrics and associated biographic data, is used by its customers for biometric identity verification and determination. Current IDENT customers include DHS components such as U.S. Citizenship and Immigration Services, U.S. Coast Guard, U.S. Customs and Border Protection, U.S. Immigration and Customs Enforcement, Transportation Security Administration, and various elements of DHS Headquarters; the Intelligence Community; other Federal agencies including the Departments of Justice, State, and Defense; State and local law enforcement; and international partners. OBIM needs HART to replace the 22-year-old legacy IDENT system to ensure continued fulfillment of evolving customer and mission needs. The redesign and development of the system will address the baseline and current gaps including capacity, increased security and privacy protections, interoperability, unsustainable costs, and performance and availability. Support of the system for additional biometric identity modalities beyond fingerprints will address customer needs for alternative modalities, provide options for non-contact biometric data collection, improve performance, and increase interoperability with customers and partners that support multiple biometric modalities.

For the Proposed Action, OBIM would develop and implement a solution to address increasing customer demand for biometric services in addition to providing technological advances, more efficient processing, and a flexible and a scalable platform to meet DHS's mid- and long-term identity needs. Several project alternatives explored in the SPEA were: (1) No Action; (2) Enhanced Baseline with Transaction Manager Replacement Alternative; (3) Data Driven Modular Alternative; and (4) Cloud Based and Managed Service. In reviewing the alternatives, OBIM's objective was to determine whether to prepare a “Finding of No Significant Impact” (FONSI) or an “Environmental Impact Statement” (EIS). With the No Action Alternative, minor indirect effects may occur with respect to noise and air quality from the slowing of services at customer locations. With Alternatives 2, 3, or 4, minor impacts are anticipated with respect to energy use. With any of these alternatives, OBIM will have an increase in capacity and scope of services which may increase energy use. However, it is also anticipated that the proposed improvements will increase efficiencies in the administration and use of OBIM services with all of the action alternatives. Therefore, energy impacts are expected to be minimal. For implementation of Alternative 4 specifically, managed service may be hosted in the existing DHS data centers or other federally approved sites. For the No Action Alternative and Alternative 4, potential changes to facilities or personnel may have some minimal effects, particularly with the potential for temporary construction. However, more specific analysis is not possible at this programmatic level of assessment, and would have to be performed with site-specific environmental analysis.

DATES: Comments are encouraged and will be accepted until thirty (30) days after the date of this notice.

This process is conducted in accordance with sec. 102 of the National Environmental Policy Act (NEPA) of 1969, as implemented by the regulations promulgated by the President's Council on Environmental Quality (CEQ; 40 CFR parts 1500-1508) and the U.S. Department of Homeland Security (DHS) NEPA implementing procedures, DHS Directive 023-01, Environmental Planning Program.

ADDRESSES: Public comments are encouraged and can be made through written communication sent through electronic mail at: nppdenvironmental@hq.dhs.gov, or the postal system to the NPPD Environmental and Energy Program, 245 Murray Lane, Mail Stop 0380, Room 608-D, Washington, DC 20528.

Use the following subject when writing in: Draft SPEA Proposed Establishment and Operations of OBIM and the HART. Public input submitted will be discussed and considered with respect to conclusions of this SPEA.

FOR FURTHER INFORMATION CONTACT: NPPD Environmental and Energy Program: nppdenvironmental@hq.dhs.gov. When inquiring about this notice, please use the following in the Subject Line: Draft SPEA Proposed Establishment and Operations of OBIM and the HART.

Comments on this Draft SPEA are also being solicited through a notice on the DHS NEPA Web site at: https://www.dhs.gov/national-environmental-policy-act.

Dated: December 6, 2016.
David Grauel,
HART Program Manager, Office of Biometric Identity Management, National Protection and Programs Directorate.

[FR Doc. 2016-30187 Filed 12-14-16; 8:45 am]

BILLING CODE 9110-9P-P